DEPARTMENT OF ENERGY

Federal Energy Regulatory Commission

[Docket Nos. CP03-302-000, CP03-303-000, and CP03-304-000]

Cheyenne Plains Gas Pipeline Company; Notice of Application

May 28, 2003.

Take notice that on May 20, 2003, Cheyenne Plains Gas Pipeline Company (Cheyenne Plains), P.O. Box 1087, Colorado Springs, Colorado 80944, filed in Docket No. CP03-302-000, CP03-303-000 and CP03-304-000, an application pursuant to section 7 of the Natural Gas Act (NGA), as amended, and parts 157 and 284 of the regulations of the Federal Energy Regulatory Commission (Commission) for: (1) A certificate of public convenience and necessity authorizing the construction, ownership, and operation of new interstate natural gas pipeline facilities; (2) a blanket certificate of public convenience and necessity authorizing Cheyenne Plains to provide open-access transportation services, with pre-granted abandonment approval; and (3) a blanket certificate of public convenience and necessity to construct, operate and/or abandon certain eligible facilities, and services related thereto. Cheyenne Plains is also requesting approval for its proposed recourse rates for transportation service and its Pro Forma Tariff, which includes the authority to enter into negotiated rate agreements. In addition, Cheyenne Plains requests that the Commission make a Preliminary Determination on Non-Environmental Issues by November 20, 2003, that includes the review and preliminary approval of various financing, rate and tariff provisions, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Cheyenne Plains, a proposed natural gas pipeline company, states that it has been formed to construct, own, and operate approximately 380 miles of 30” O.D. pipeline that extends southeastward from interconnections with Colorado Interstate Gas Company (CIG) and Wyoming Interstate Company, Ltd. at the Cheyenne Hub, located near the Colorado/Wyoming border, to new interconnections with six interstate and one intrastate transmission pipeline systems located toward the eastern portion of the pipeline in Kansas. Cheyenne Plains states that CIG is filing a companion section 7(c) application with the Commission seeking authorization to install a jumper compressor unit at its Cheyenne Compressor Station in order to provide a compression service. Installation of this jumper compressor unit will permit gas being delivered from CIG to meet the minimum suction pressure requirements of the Cheyenne Plains compressors. Accordingly, following an open season, Cheyenne Plains executed an agreement with CIG for this compression service.

Any questions concerning this application may be directed to Robert T. Tomlinson, Director, Regulatory Affairs, Cheyenne Plains Gas Pipeline Company, P.O. Box 1087, Colorado Springs, Colorado, 80944, at (719) 520-3788 or fax (719) 667-7534; or to Judy A. Heineman, Vice President and General Counsel, Cheyenne Plains Gas Pipeline Company, P.O. Box 1087, Colorado Springs, Colorado, 80944, at (719) 520-4829 or fax (719) 520-4898.

There are two ways to become involved in the Commission's review of this project. First, any person wishing to obtain legal status by becoming a party to the proceedings for this project should file with the Federal Energy Regulatory Commission, 888 First Street, NE., Washington, DC 20426, a motion to intervene in accordance with the requirements of the Commission's rules of practice and procedure (18 CFR 385.214 or 385.211) and the regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: June 18, 2003.

Magalie R. Salas,
Secretary.

[FR Doc. 03-13988 Filed 6-3-03; 8:45 am]

BILLING CODE 6717-01-P